DEPARTMENT OF COMMERCE

National Oceanic and Atmospheric Administration

50 CFR Part 679

[Docket No. 101126521-0640-02]

RIN 0648-XA757

Fisheries of the Exclusive Economic Zone Off Alaska; Reallocation of Yellowfin Sole in the Bering Sea and Aleutian Islands Management Area

AGENCY: National Marine Fisheries Service (NMFS), National Oceanic and Atmospheric Administration (NOAA), Commerce.

ACTION: Temporary rule; reallocation.

SUMMARY: NMFS is reallocating the projected unused amount of the 2011 yellowfin sole total allowable catch (TAC) assigned to the Bering Sea and Aleutian Islands trawl limited access sector to the Amendment 80 cooperative in the Bering Sea and Aleutian Islands management area (BSAI). This action is necessary to allow the 2011 total allowable catch of yellowfin sole to be fully harvested.

DATES: Effective October 6, 2011, through 2400 hrs, Alaska local time (A.l.t.), December 31, 2011.

FOR FURTHER INFORMATION CONTACT: Steve Whitney, 907-586-7269.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2011 yellowfin sole TAC assigned to the Bering Sea and Aleutian Islands trawl limited access sector is 34,153 metric tons (mt) and to the Amendment 80 cooperative is 138,875 mt as established by the final 2011 and 2012 harvest specifications for groundfish in the BSAI (76 FR 11139, March 1, 2011).

The Administrator, Alaska Region, NMFS, has determined that 2,000 mt of the yellowfin sole TAC assigned to the BSAI trawl limited access sector will not be harvested. Therefore, in accordance with § 679.91(f), NMFS reallocates 2,000 mt of yellowfin sole from the BSAI trawl limited access sector to the Amendment 80 cooperatives in the BSAI. In accordance with § 679.91(f), NMFS will reissue cooperative quota permits for the reallocated yellowfin sole following the procedures set forth in § 679.91(f)(3).

The harvest specifications for yellowfin sole included in the harvest specifications for groundfish in the BSAI (76 FR 11139, March 1, 2011) are revised as follows: 32,153 mt to the BSAI trawl limited access sector and 140,875 mt to the Amendment 80 cooperatives in the BSAI. Table 7a is correctly revised and republished in its entirety as follows:

Table 7a—Final 2011 Community Development Quota (CDQ) Reserves, Incidental Catch Amounts (ICAS), and Amendment 80 Allocations of the Aleutian Islands Pacific Ocean Perch, and BSAI Flathead Sole, Rock Sole, and Yellowfin Sole Tacs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 5,660 | 4,960 | 8,370 | 41,548 | 85,000 | 196,000
CDQ | 606 | 531 | 896 | 4,446 | 9,095 | 20,972
ICA | 100 | 75 | 10 | 5,000 | 5,000 | 2,000
BSAI trawl limited access | 495 | 435 | 149 | 0 | 0 | 32,153
Amendment 80 | 4,459 | 3,919 | 7,315 | 32,102 | 70,905 | 140,875
Alaska Groundfish Cooperative | 2,364 | 2,078 | 3,879 | 6,269 | 19,902 | 59,798
Alaska Seafood Cooperative | 2,095 | 1,841 | 3,436 | 25,833 | 51,003 | 81,077
Note: Sector apportionments may not total precisely due to rounding.

This will enhance the socioeconomic well-being of harvesters dependent upon yellowfin sole in this area. The Regional Administrator considered the following factors in reaching this decision: (1) The current catch of yellowfin sole by the BSAI trawl limited access sector and, (2) the harvest capacity and stated intent on future harvesting patterns of the Amendment 80 cooperative that participates in this BSAI fishery.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of yellowfin sole from the BSAI trawl limited access sector to the Amendment 80 cooperative in the BSAI. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of September 29, 2011.

The AA also finds good cause to waive the 30-day delay in the effective date of this action under 5 U.S.C. 553(d)(3). This finding is based upon the reasons provided above for waiver of prior notice and opportunity for public comment.

This action is required by § 679.91 and is exempt from review under Executive Order 12866.

Authority: 16 U.S.C. 1801 et seq.

Dated: October 6, 2011.
Steven Thur,
Acting Director, Office of Sustainable Fisheries, National Marine Fisheries Service.

[FR Doc. 2011-26304 Filed 10-6-11; 4:15 pm]

BILLING CODE 3510-22-P